COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before April 9, 2012.

ADDRESSES: Send comments regarding the burden estimated or any other aspect of the information collection, including suggestions for reducing the burden, to the addresses below. Please refer to OMB Control No. 3038-0007 in any correspondence.

Ryne Miller, Division of Market Oversight, Commodity Futures Trading Commission, 1155 21st Street NW., Washington, DC 20581; and

Office of Information and Regulatory Affairs, Office of Management and Budget, Attention: Desk Officer for CFTC, 725 17th Street, Washington, DC 20503.

Comments may also be submitted by any of the following methods:

The agency's Web site, at http://comments.cftc.gov. Follow the instructions for submitting comments through the Web site.

Mail: David A. Stawick, Secretary of the Commission, Commodity Futures Trading Commission, Three Lafayette Centre, 1155 21st Street NW., Washington, DC 20581.

Hand Delivery/Courier: Same as mail above.

Federal eRulemaking Portal: http://www.regulations.gov. Follow the instructions for submitting comments.

Please submit your comments using only one method and identify that it is for the renewal of 3038-0007.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ See 17 CFR 145.9.

FOR FURTHER INFORMATION CONTACT: Ryne Miller, Division of Market Oversight, Commodity Futures Trading Commission, 1155 21st Street NW., Washington, DC 20581, (202) 418-5921; FAX: (202) 418-5527; email: rmiller@cftc.gov and refer to OMB Control No. 3038-0007.

SUPPLEMENTARY INFORMATION: Title: Rules Relating to Regulation of Domestic Exchange Traded Options (OMB Control No. 3038-0007). This is a request for extension of a currently approved information collection.

Abstract: The rules require futures commission merchants and introducing brokers: (1) To provide their customers with standard risk disclosure statements concerning the risk of trading commodity interests; and (2) to retain all promotional material and the source of authority for information contained therein. The purpose of these rules is to ensure that customers are advised of the risks of trading commodity interests and to avoid fraud and misrepresentation. This information collection contains the recordkeeping and reporting requirements needed to ensure regulatory compliance with Commission rules relating to this issue.

The Commission estimates the burden of this collection of information as follows:

Estimated Annual Reporting Burden
Regulation | Estimated number of respondents or recordkeepers per year | Reports annually by each respondent | Total annual responses | Estimated average number of hours per response | Estimated total number of hours of annual burden in fiscal year
Reporting:
38.3, 38.4, 40.2 and 40.3 (Procedure for Designation or Self-Certification) | 13.00 | 2.00 | 26.00 | 25.00 | 650
33.7—(Risk Disclosure) | 120.00 | 115.00 | 13,800.00 | 0.08 | 1,104.00
Subtotal (Reporting Requirements) | 133.00 |  | 13,826.00 |  | 1,754.00
Recordkeeping:
33.8—(Retention of Promotional Material) | 170.00 | 1.00 | 170.00 | 25.00 | 4,250.00
Subtotal (Recordkeeping Requirements) |  |  |  |  |
Grand Total (Reporting and Recordkeeping) | 303.00 |  | 13,996.00 |  | 6,004.00

There are no capital costs or operating and maintenance costs associated with this collection.

Dated: March 2, 2012.
David A. Stawick,
Secretary of the Commission.

[FR Doc. 2012-5654 Filed 3-7-12; 8:45 am]

BILLING CODE P